COMMISSION ON CIVIL RIGHTS

Notice of Public Meeting of the Connecticut Advisory Committee; Correction to Date

AGENCY: Commission on Civil Rights.

ACTION: Notice; correction of meeting date.

SUMMARY: The Commission on Civil Rights is holding a briefing of the Connecticut Advisory Committee on Tuesday, February 15, 2022, at 4:00 p.m. ET. This notice corrects the previous date of Monday, February 14, 2022, to Tuesday, February 15, 2022, at 4:00 p.m. ET. The notice is in the Federal Register of Friday, January 21, 2022, in FR Doc. 2022-01119, in the second and third columns of page 3279.

FOR FURTHER INFORMATION CONTACT: Evelyn Bohor, (202) 381-8915, ebohor@usccr.gov.

CORRECTION: Date of Monday, February 14, 2022, at 4:00 p.m. ET to be replaced with meeting date of Tuesday, February 15, 2022, at 4:00 p.m. ET.

Dated: January 26, 2022.
David Mussatt,
Supervisory Chief, Regional Programs Unit.

[FR Doc. 2022-01914 Filed 1-28-22; 8:45 am]

BILLING CODE P